DEPARTMENT OF EDUCATION

34 CFR Chapter III

[Docket ID ED-2019-OSERS-0025; Catalog of Federal Domestic Assistance (CFDA) Number: 84.373M.]

Final Priority and Requirements—Technical Assistance on State Data Collection—IDEA Data Management Center

AGENCY: Office of Special Education and Rehabilitative Services (OSERS), Department of Education.

ACTION: Final priority and requirements.

SUMMARY: The Department of Education (Department) announces a priority and requirements under the Technical Assistance on State Data Collection Program. The Department may use this priority and these requirements for competitions in fiscal year (FY) 2020 and later years. We take this action to focus attention on an identified national need to provide technical assistance (TA) to improve the capacity of States to meet the data collection requirements of the Individuals with Disabilities Education Act (IDEA). The IDEA Data Management Center (Data Management Center) will assist States in collecting, reporting, and determining how to best analyze and use their data to establish and meet high expectations for each child with a disability by enhancing, streamlining, and integrating their IDEA Part B data into their State longitudinal data systems and will customize its TA to meet each State's specific needs.

DATES: This priority and these requirements are effective August 10, 2020.

FOR FURTHER INFORMATION CONTACT: Amy Bae, U.S. Department of Education, 400 Maryland Avenue SW, Room 5016C, Potomac Center Plaza, Washington, DC 20202-5076. Telephone: (202) 245-8272. Email: Amy.Bae@ed.gov.

If you use a telecommunications device for the deaf (TDD) or a text telephone (TTY), call the Federal Relay Service (FRS), toll free, at 1-800-877-8339.

SUPPLEMENTARY INFORMATION:

Purpose of Program: The purpose of the Technical Assistance on State Data Collection program is to improve the capacity of States to meet IDEA data collection and reporting requirements. Funding for the program is authorized under section 611(c)(1) of IDEA, which gives the Secretary the authority to reserve not more than ½ of 1 percent of the amounts appropriated under Part B for each fiscal year to provide TA activities authorized under section 616(i), where needed, to improve the capacity of States to meet the data collection and reporting requirements under Parts B and C of IDEA. The maximum amount the Secretary may reserve under this set-aside for any fiscal year is $25,000,000, cumulatively adjusted by the rate of inflation. Section 616(i) of IDEA requires the Secretary to review the data collection and analysis capacity of States to ensure that data and information determined necessary for implementation of section 616 of IDEA are collected, analyzed, and accurately reported to the Secretary. It also requires the Secretary to provide TA (from funds reserved under section 611(c)), where needed, to improve the capacity of States to meet the data collection requirements, which include the data collection and reporting requirements in sections 616 and 618 of IDEA. Additionally, the Department of Defense and Labor, Health and Human Services, and Education Appropriations Act, 2019 and Continuing Appropriations Act, 2019; and the Further Consolidated Appropriations Act, 2020 give the Secretary authority to use funds reserved under section 611(c) to “administer and carry out other services and activities to improve data collection, coordination, quality, and use under parts B and C of the IDEA.” Department of Defense and Labor, Health and Human Services, and Education Appropriations Act, 2019 and Continuing Appropriations Act, 2019; Div. B, Title III of Public Law 115-245; 132 Stat. 3100 (2018). Further Consolidated Appropriations Act, 2020; Div. A, Title III of Public Law 116-94; 133 Stat. 2590 (2019).

Program Authority: 20 U.S.C. 1411(c), 1416(i), 1418(c), 1442; the Department of Defense and Labor, Health and Human Services, and Education Appropriations Act, 2019 and Continuing Appropriations Act, 2019, Div. B, Title III of Public Law 115-245, 132 Stat. 3100 (2018); and Further Consolidated Appropriations Act, 2020, Div. A, Title III of Public Law 116-94, 133 Stat. 2590 (2019).

Applicable Program Regulations: 34 CFR 300.702.

We published a notice of proposed priority and requirements (NPP) for this program in the Federal Register on November 13, 2019 (84 FR 61585). The NPP contained background information and our reasons for proposing the particular priority and requirements.

There are differences between the NPP and this notice of final priority and requirements (NFP) as discussed in the Analysis of Comments and Changes section of this document. The only substantive changes provide examples of potential stakeholders.

Public Comment: In response to our invitation to comment in the NPP, 18 parties submitted comments on the proposed priority and requirements.

Generally, we do not address technical and other minor changes. In addition, we do not address comments that raised concerns not directly related to the proposed priority and requirements.

Analysis of Comments and Changes: An analysis of the comments and changes in the priority and requirements since publication of the NPP follows. OSERS received comments on several specific topics, including whether the establishment of two centers (i.e., one center addressing the needs of Developed Capacity States, and another center addressing the needs of Developing Capacity States) would be an efficient and effective approach to meeting the diverse needs of States in integrating, reporting, analyzing, and using high-quality IDEA Part B data. Each topic is addressed below.

General Comments

Comments: All commenters expressed overall support for the proposed Data Management Center, and a number of commenters noted the positive impact of the valuable TA they received from centers previously funded under this program.

Discussion: The Department appreciates the comments and agrees with the commenters. Centers funded under this program provide necessary and valuable TA to the States.

Changes: None.

Providing TA to Developing and Developed Capacity States

Comments: In response to our directed question about whether to establish two centers, the majority of the commenters did not support establishing two data management centers (i.e., one center addressing the needs of Developed Capacity States, and another center addressing the needs of Developing Capacity States). These commenters noted that creating two data management centers would (1) generate unnecessary redundancies and result in inefficient use of Federal TA resources; (2) make it difficult for States to learn valuable lessons regarding the integration of IDEA data into State longitudinal data systems from their colleagues; and (3) create confusion regarding the scope of the centers and which States would be served by which of the two data management centers. The commenters noted that one data management center would be able to support both the Developed Capacity States and Developing Capacity States through systematic planning.

Discussion: The Department agrees that establishing two data management centers would generate unnecessary redundancies, be an inefficient use of resources, make it difficult for States to learn from each other, and create confusion over the individual scopes of the centers and which States would be served by which of the two data management centers. Therefore, we have not incorporated the two-center structure into the final priority and requirements.

Changes: None.

Comments: One commenter was supportive of establishing two data management centers and suggested that one center focus on the technical capacity of States to collect, access, and appropriately share high-quality, timely data and the other center focus on the human capacity to more effectively analyze, access, and apply data in efforts to improve policy, programs, placement, and instructional practice.

Discussion: The Department believes that building a State's technical capacity and human capacity to integrate IDEA data into State longitudinal data systems are both necessary components to achieving the outcomes of this priority. However, we believe that the TA on these components needs to be provided in a coordinated fashion that allows data governance principles to guide the data integration work. We have concluded that separating the TA provided on these components between two centers would result in a disjointed and fragmented approach to data integration and a less efficient and effective manner to achieving the outcomes of this priority. Therefore, we have not incorporated the two-center structure into the final priority and requirements.

Changes: None.

Comments: Another commenter was supportive of establishing two data management centers and argued that the Department should provide examples of the types of TA that each of the data management centers would provide in order to delineate the distinct roles and responsibilities of each center and help States identify their needs and capacity in this area.

Discussion: The Department appreciates the comment; however, we have concluded that establishing two data management centers to meet the needs of States in integrating, reporting, analyzing, and using high-quality IDEA Part B data would result in overlapping scopes, redundancy of TA products and services, and an inability for States to learn from their colleagues in the areas of data management and integration. The Department believes that one data management center will be an efficient and effective approach to meeting the needs of Developing Capacity States and Developed Capacity States.

Changes: None.

Comments: Some commenters noted that States cannot easily be categorized into Developed or Developing Capacity States. They argued that data management and integration activities exist on a dynamic and ever-changing continuum and that States may have some of their IDEA data linked or integrated into the State longitudinal data system while other IDEA data are not linked or integrated. Additionally, they argued States may move back and forth between these two groups as situations and support for data management and integration work within States changes over time.

Discussion: The Department agrees that data management and integration activities exist on a continuum; however, we believe it is important to focus intensive, sustained TA on Developing Capacity States. We recognize that a State's status as a Developing Capacity State may change, and that the intensive, sustained TA will shift along with a State's status, including whether that status is based on a portion of a State's data linkages. We continue to believe that the Data Management Center should prioritize those States that present as Developing Capacity States.

Changes: None.

Including IDEA Part C Early Intervention and Part B Preschool Special Education Data

Comments: A number of commenters supported including IDEA Part C early intervention and Part B preschool special education data in the scope of the Data Management Center. These commenters noted that States are currently using these data to enhance their ability to answer critical questions that help evaluate and improve early childhood programs and services. Additionally, they discussed the value of linking data across sources both vertically (birth to 21 years and beyond) as well as horizontally (across programs such as IDEA, Head Start, pre-kindergarten (pre-k), child care, child welfare, health, Title I, etc.) to provide powerful information about the value of these programs as they work to improve outcomes for children and families.

Discussion: The Department agrees that the Data Management Center should support building State capacity to integrate IDEA Part B data, including the Part B preschool special education data, as required under sections 616 and 618 of IDEA, within their longitudinal data systems. All references to IDEA Part B data throughout the priority are inclusive of the Part B preschool special education data.

Additionally, the Department agrees with the value of linking IDEA Part C early intervention data vertically and horizontally to data and data systems used to support other early childhood and school age programs (e.g., IDEA, Head Start, pre-k, child care, child welfare, health, Title I). Such linkages must appropriately address the applicable privacy and confidentiality requirements under IDEA Part C, Head Start, and the Family Educational Rights and Privacy Act (FERPA).

The Department currently funds the Center for IDEA Early Childhood Data Systems (CFDA number 84.373Z). That center focuses on early childhood data issues, including the unique privacy and confidentiality requirements applicable to IDEA Part C, which are not the focus of this center. By contrast, the preschool special education data are subject to the same requirements as the school-aged special education data under both IDEA Part B and FERPA.

Therefore, the Department believes that including the IDEA Part C early intervention data in this priority would create unnecessary overlap in the scope of the two centers and potential duplication of TA products and services, specifically as it relates to issues of privacy and confidentiality.

Changes: None.

Expanding the Types and Roles of Stakeholders

Comments: A few commenters recommended specifying the following stakeholders in outcome (b): Parents, advocates, policymakers, school personnel, local and State school boards, researchers, charter school authorizers, and Indian Tribes and Tribal organizations.

Discussion: The Department agrees that broad stakeholder involvement is very important to the success of a center. We are revising the priority to include examples of potential stakeholders for States to consider when developing products to report their special education data.

Changes: We have revised outcome (b) to include the following examples of stakeholders: Policymakers, school personnel, local and State school boards, local educational agency (LEA) administrators, researchers, charter school authorizers, parents and advocates, and Indian Tribes and Tribal organizations.

Comments: A few commenters requested that we require the Data Management Center to establish an advisory group comprised primarily of State data managers who can help determine needs and focus priorities of the Data Management Center.

Discussion: The Department appreciates the comment; however, we do not believe an advisory board is necessary and anticipate that the Data Management Center will engage established data groups, made up, for example, of State data managers, to determine the needs and focus priorities of the Data Management Center. Further, this center will be required to support a user group of States that are using an open source electronic tool for reporting IDEA Part B data required under sections 616 and 618 of IDEA, as noted in paragraph (g) of the TA requirements. We anticipate that this user group will provide additional feedback and direction on the functionality of the center's open source electronic tool.

Changes: None.

TA Needs of States

Comments: Some commenters argued that we should require the Data Management Center to offer differing levels of expertise and services based on the various needs of the States.

Discussion: The Department agrees. The Data Management Center will provide three levels of TA associated with improving States' capacity to report high-quality IDEA Part B data required under sections 616 and 618 of IDEA through their State longitudinal data systems: (1) Intensive, sustained TA; (2) targeted, specialized TA; and (3) universal, general TA. Because this requirement is already incorporated into requirement (b)(5)(iii)(C), no changes are necessary.

Changes: None.

Comments: Some commenters requested that we clarify how the TA needs of States are identified and the center will meet the needs of charter schools that are public schools within an LEA and charter schools that operate as their own LEA.

Discussion: Applicants under this priority will be required to describe how they will identify the TA needs of States. This priority does not require a specific approach to identifying the State TA needs. However, the Department agrees that charter schools should be identified as a stakeholder group when the center is identifying outputs (e.g., reports, Application Programming Interface, new innovations) of an open source electronic tool.

Changes: We have revised TA requirement (e) pertaining to targeted and general TA products and services to include charter schools as an example of stakeholders States should consider when identifying outputs generated by the Data Management Center's open source electronic tool.

Comments: A few commenters requested that we incorporate additional requirements into the “Significance” section. Generally, these commenters suggested that applicants present information about best practice strategies on data integration that result in reduced administrative burdens for multiple users and increase the potential relevant IDEA Part B and longitudinal data for use outside of IDEA oversight.

Discussion: The Department appreciates the comment; however, we believe these requirements are outside the scope of this Data Management Center, though the center will support States in their efforts to implement data integration strategies to meet the needs of their stakeholder groups, which we have further identified as a way to better address the data use needs of schools.

Changes: As discussed above, we have revised outcome (b) to include the following examples of stakeholders: Policymakers, school personnel, local and State school boards, LEA administrators, researchers, charter school authorizers, parents and advocates, and Indian Tribes and Tribal organizations.

Comments: One commenter requested that we clarify that the TA provided by the center will meet the needs of any applying entity regardless of size, including Indian Tribes and Tribal organizations.

Discussion: The purpose of the Technical Assistance on State Data Collection program is to improve the capacity of States to meet IDEA data collection and reporting requirements, which apply to all of the entities that receive an IDEA Part B grant (i.e., the 50 States, the District of Columbia, the Commonwealth of Puerto Rico, each of the outlying areas and the freely associated States, and the Bureau of Indian Education). While the Data Management Center would not directly provide intensive, targeted, and universal TA to entities other than those that receive IDEA Part B grants, it would support those grantees' reporting of IDEA Part B data to different stakeholder groups including LEAs, charter schools, and Indian Tribes and Tribal organizations.

Changes: None.

Comments: One commenter requested that the references to Title I of the Elementary and Secondary Education Act of 1965, as amended (ESEA), in outcome (e) be revised to “all titles” of ESEA.

Discussion: The Department appreciates the concern but did not intend the list of examples provided in outcome (e) to be exhaustive. The Data Management Center will support States in their efforts to identify the Federal programs to analyze.

Changes: None.

Comments: A commenter requested that we revise requirement (1) under “Quality of project services” to prioritize the treatment for members of groups that have traditionally been underrepresented based on race, color, national origin, gender, age, or disability, rather than ensure their equal access and treatment.

Discussion: The Department appreciates the comment. Requirement (1) under “Quality of project services” mirrors the language in the related selection criteria in the Education Department General Administrative Regulations (34 CFR 75.210). Under this requirement, applicants must demonstrate how the proposed project will ensure equal access and treatment for members of groups that have traditionally been underrepresented based on race, color, national origin, gender, age, or disability. We believe that the proposed requirement adequately addresses our interest in ensuring that project services are designed to ensure equal access to traditionally underrepresented groups.

Changes: None.

Intended Outcomes of Integrated State Longitudinal Data Systems

Comments: A commenter requested the Department clarify that the end result of an integrated State longitudinal data system should be to inform State and district decision-making in regard to targeting needed resources to protect civil rights and to improving the outcomes of students with disabilities.

Discussion: The Department agrees that States should use their State longitudinal data systems to analyze high-quality data on the participation and outcomes of children with disabilities across various Federal programs in order to improve IDEA programs and the outcomes of children with disabilities. We believe outcome (e) addresses the requested clarification. Outcome (e) states, “The Data Management Center must be designed to achieve, at a minimum . . . [i]ncreased capacity of States to use their State longitudinal data systems to analyze high-quality data on the participation and outcomes of children with disabilities across various Federal programs (e.g., IDEA, Title I of the ESEA) in order to improve IDEA programs and the outcomes of children with disabilities.”

Changes: None.

Comments: A commenter requested that the Department add language that States must work to ensure they utilize charter school and traditional public school data to protect civil rights and improve the outcomes of students with disabilities.

Discussion: The Department appreciates the comment; however, we believe specifying how States utilize data in their analyses is beyond the scope of this priority. The Data Management Center will support States in their efforts to integrate their IDEA Part B data required under sections 616 and 618 of IDEA within their longitudinal data systems and use their State longitudinal data systems to analyze high-quality data on the participation and outcomes of children with disabilities across various Federal programs.

Changes: None.

Data Collection Under IDEA

Comments: A commenter recommended that State IDEA data collections capture the following data elements:

• Whether the student has a speech or language disorder;

• If the student is receiving IDEA services, the disability category and whether it is the primary or secondary impairment;

• If the student is receiving services under section 504, the disability category and whether it is the primary or secondary impairment;

• Whether the student is receiving hearing or speech and language services; and

• If the student has hearing loss, whether it is in one or both ears; the degree of hearing loss in each ear; and the type of hearing instruments used in the classroom setting.

Discussion: The Department appreciates the comment; however, this priority does not address the data collection and reporting requirements for States under IDEA. The EDFacts information collection package (OMB control number 1850-0925), which would more appropriately address these issues, was published in the Federal Register on April 8, 2019 (84 FR 13913). It addressed the IDEA Section 618 Part B data collection requirements and was open for public comment from April 8, 2019, to May 8, 2019.

Changes: None.

Final Priority:

IDEA Data Management Center.

The purpose of this priority is to fund a cooperative agreement to establish and operate an IDEA Data Management Center (Data Management Center). The Data Management Center will respond to State needs as States integrate their IDEA Part B data required to meet the data collection requirements in section 616 and section 618 of IDEA, including information collected through the IDEA State Supplemental Survey, into their longitudinal data systems. This will improve the capacity of States to collect, report, analyze, and use high-quality IDEA Part B data to establish and meet high expectations for each child with a disability. The Data Management Center will help States address challenges with data management procedures and data systems architecture and better meet current and future IDEA Part B data collection and reporting requirements. The Data Management Center's work will comply with the privacy and confidentiality protections in the Family Educational Rights and Privacy Act (FERPA) and IDEA. The Data Management Center will not provide the Department with access to child-level data and will further ensure that such data is de-identified, as defined in 34 CFR 99.31(b)(1).

The Data Management Center must be designed to achieve, at a minimum, the following expected outcomes:

(a) Increased capacity of States to integrate IDEA Part B data required under sections 616 and 618 of IDEA within their longitudinal data systems;

(b) Increased use of IDEA Part B data within States by developing products to allow States to report their special education data to various stakeholders (e.g., policymakers, school personnel, local and State school boards, LEA administrators, researchers, charter school authorizers, parents and advocates, Indian Tribes and Tribal organizations) through their longitudinal data systems;

(c) Increased number of States that use data governance and data management procedures to increase their capacity to meet the IDEA Part B reporting requirements under sections 616 and 618 of IDEA;

(d) Increased capacity of States to utilize their State longitudinal data systems to collect, report, analyze, and use high-quality IDEA Part B data (including data required under sections 616 and 618 of IDEA); and

(e) Increased capacity of States to use their State longitudinal data systems to analyze high-quality data on the participation and outcomes of children with disabilities across various Federal programs (e.g., IDEA, Title I of the ESEA) in order to improve IDEA programs and the outcomes of children with disabilities.

In addition, the Data Management Center must provide a range of targeted and general TA products and services for improving States' capacity to report high-quality IDEA Part B data required under sections 616 and 618 of IDEA through their State longitudinal data systems. Such TA should include, at a minimum—

(a) In partnership with the Department, supporting, as needed, the implementation of an existing open source electronic tool to assist States in building EDFacts data files and reports that can be submitted to the Department and made available to the public. The tool must utilize Common Education Data Standards (CEDS) and meet all States' needs associated with reporting the IDEA Part B data required under sections 616 and 618 of IDEA;

(b) Developing and implementing a plan to maintain the appropriate functionality of the open source electronic tool described in paragraph (a) as changes are made to data collections, reporting requirements, file specifications, and CEDS (such as links within the system to include TA products developed by other Office of Special Education Programs (OSEP)/Department-funded centers or contractors);

(c) Conducting TA on data governance to facilitate the use of the open source electronic tool and providing training to State staff to implement the open source electronic tool;

(d) Revising CEDS “Connections” ¹ to calculate metrics needed to report the IDEA Part B data required under sections 616 and 618 of IDEA;

¹ A Connection is a way of showing which CEDS data elements might be necessary for answering a data question. For users who have aligned their data systems to CEDS, States will be able to utilize these Connections via the Connect tool to see which data elements, in their own systems, would be needed to answer any data question.

(e) Identifying other outputs (e.g., reports, Application Programming Interface, new innovations) of an open source electronic tool that can support reporting by States of IDEA Part B data to different stakeholder groups (e.g., LEAs, charter schools, legislative branch, parents);

(f) Supporting the inclusion of other OSEP/Department-funded TA centers' products within the open source electronic tool or building connections that allow the SEAs to pull IDEA Part B data efficiently into the other TA products;

(g) Supporting a user group of States that are using an open source electronic tool for reporting IDEA Part B data required under sections 616 and 618 of IDEA; and

(h) Developing products and presentations that include tools and solutions to challenges in data management procedures and data system architecture for reporting the IDEA Part B data required under sections 616 and 618 of IDEA.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Assistant Secretary establishes the following requirements for this program. We may apply one or more of these requirements in any year in which this program is in effect.

Requirements:

Applicants must—

(a) Demonstrate, in the narrative section of the application under “Significance,” how the proposed project will—

(1) Address State challenges associated with State data management procedures, data systems architecture, and building EDFacts data files and reports for timely reporting of the IDEA Part B data to the Department and the public. To meet this requirement the applicant must—

(i) Present applicable national, State, or local data demonstrating the difficulties that States have encountered in the collection and submission of valid and reliable IDEA Part B data;

(ii) Demonstrate knowledge of current educational and technical issues and policy initiatives relating to IDEA Part B data collections and EDFacts file specifications for the IDEA Part B data collections; and

(iii) Present information about the current level of implementation of integrating IDEA Part B data within State longitudinal data systems and the reporting of high-quality IDEA Part B data to the Department and the public.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients for TA and information;

(2) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Be based on current research and make use of evidence-based practices (EBPs).² To meet this requirement, the applicant must describe—

² For purposes of these requirements, “evidence-based practices” means practices that, at a minimum, demonstrate a rationale (as defined in 34 CFR 77.1), where a key project component included in the project's logic model is informed by research or evaluation findings that suggest the project component is likely to improve relevant outcomes.

(i) The current research on data collection strategies, data management procedures, and data systems architecture; and

(ii) How the proposed project will incorporate current research and EBPs in the development and delivery of its products and services;

(5) Develop products and provide services that are of high quality and sufficient intensity and duration to achieve the intended outcomes of the proposed project. To address this requirement, the applicant must describe—

(i) How it proposes to identify or develop the knowledge base on States' data management processes and data systems architecture;

(ii) Its proposed approach to universal, general TA,³ which must identify the intended recipients, including the type and number of recipients, that will receive the products and services under this approach;

³ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iii) Its proposed approach to targeted, specialized TA,⁴ which must identify—

⁴ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services under this approach;

(B) Its proposed approach to measure the readiness of potential TA recipients to work with the project, assessing, at a minimum, their current infrastructure, available resources, and ability to build capacity at the State and local levels;

(C) Its proposed approach to prioritizing TA recipients with a primary focus on meeting the needs of Developing Capacity States; ⁵ and

⁵ “Developed Capacity States” are defined as States that can demonstrate that their data systems include linkages between special education data and other early childhood and K-12 data. Projects funded under this focus area will focus on helping such States utilize those existing linkages to report, analyze, and use IDEA Part B data.

“Developing Capacity States” are defined as States that have a data system that does not include linkages between special education data and other early childhood and K-12 data. Projects funded under this focus area will focus on helping such States develop those linkages to allow for more accurate and efficient reporting, analysis, and use of IDEA Part B data.

(D) The process by which the proposed project will collaborate with other OSEP-funded centers and other federally funded TA centers to develop and implement a coordinated TA plan when they are involved in a State; and

(iv) Its proposed approach to intensive, sustained TA,⁶ which must identify—

⁶ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, which must be Developing Capacity States, including the type and number of recipients, that will receive the products and services under this approach;

(B) Its proposed approach to address States' challenges associated with integrating IDEA Part B data within State longitudinal data systems and to report high-quality IDEA Part B data to the Department and the public, which should, at a minimum, include providing on-site consultants to SEAs to—

(1) Model and document data management and data system integration policies, procedures, processes, and activities within the State;

(2) Support the State's use of an open source electronic tool and provide technical solutions to meet State-specific data needs;

(3) Develop a sustainability plan for the State to maintain the data management and data system integration work in the future; and

(4) Support the State's cybersecurity plan in collaboration, to the extent appropriate, with the Department's Student Privacy Policy Office and its Privacy Technical Assistance Center;

(C) Its proposed approach to measure the readiness of the SEAs to work with the project, including their commitment to the initiative, alignment of the initiative to their needs, current infrastructure, available resources, and ability to build capacity at the State and local district levels;

(D) Its proposed plan to prioritize Developing Capacity States with the greatest need for intensive TA to receive products and services;

(E) Its proposed plan for assisting SEAs to build or enhance training systems that include professional development based on adult learning principles and coaching;

(F) Its proposed plan for working with appropriate levels of the education system (e.g., SEAs, regional TA providers, districts, local programs, families) to ensure that there is communication between each level and that there are systems in place to support the collection, reporting, analysis, and use of high-quality IDEA Part B data, as well as State data management procedures and data systems architecture for building EDFacts data files and reports for timely reporting of the IDEA Part B data to the Department and the public; and

(G) The process by which the proposed project will collaborate and coordinate with other OSEP-funded centers and other Department-funded TA investments, such as the Institute of Education Sciences/National Center for Education Statistics research and development investments, where appropriate, to develop and implement a coordinated TA plan; and

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the project evaluation,” include an evaluation plan for the project developed in consultation with and implemented by a third-party evaluator.⁷ The evaluation plan must—

⁷ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions should be related to the project's proposed logic model required in paragraph (b)(2)(ii) of these requirements;

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the State Performance Plan/Annual Performance Report (SPP/APR) and at the end of Year 2 for the review process; and

(5) Dedicate sufficient funds in each budget year to cover the costs of developing or refining the evaluation plan in consultation with a third-party evaluator, as well as the costs associated with the implementation of the evaluation plan by the third-party evaluator.

(d) Demonstrate, in the narrative section of the application under “Adequacy of resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed costs are reasonable in relation to the anticipated results and benefits, and how funds will be spent in a way that increases their efficiency and cost-effectiveness, including by reducing waste or achieving better outcomes; and

(5) The applicant will ensure that it will recover the lesser of: (A) Its actual indirect costs as determined by the grantee's negotiated indirect cost rate agreement with its cognizant Federal agency; and (B) 40 percent of its modified total direct cost (MTDC) base as defined in 2 CFR 200.68.

Note: The MTDC is different from the total amount of the grant. Additionally, the MTDC is not the same as calculating a percentage of each or a specific expenditure category. If the grantee is billing based on the MTDC base, the grantee must make its MTDC documentation available to the program office and the Department's Indirect Cost Unit. If a grantee's allocable indirect costs exceed 40 percent of its MTDC as defined in 2 CFR 200.68, the grantee may not recoup the excess by shifting the cost to other grants or contracts with the U.S. Government, unless specifically authorized by legislation. The grantee must use non-Federal revenue sources to pay for such unrecovered costs.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements:

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period; and

(iii) Three annual two-day trips to attend Department briefings, Department-sponsored conferences, and other meetings, as requested by OSEP;

(3) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period;

(4) Maintain a high-quality website, with an easy-to-navigate design, that meets government or industry-recognized standards for accessibility;

(5) Include, in Appendix A, an assurance to assist OSEP with the transfer of pertinent resources and products and to maintain the continuity of services to States during the transition to this new award period and at the end of this award period, as appropriate; and

(6) Budget to provide intensive, sustained TA to at least 25 States.

This document does not preclude us from proposing additional priorities or requirements, subject to meeting applicable rulemaking requirements.

Note: This notice does not solicit applications. In any year in which we choose to use this priority and these requirements, we invite applications through a notice in the Federal Register.

Executive Orders 12866, 13563, and 13771

Regulatory Impact Analysis

Under Executive Order 12866, the Office of Management and Budget (OMB) determines whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866. Pursuant to the Congressional Review Act (5 U.S.C. 801 et seq.), the Office of Information and Regulatory Affairs designated this rule as not a “major rule,” as defined by 5 U.S.C. 804(2).

Under Executive Order 13771, for each new rule that the Department proposes for notice and comment or otherwise promulgates that is a significant regulatory action under Executive Order 12866, and that imposes total costs greater than zero, it must identify two deregulatory actions. For Fiscal Year 2020, any new incremental costs associated with a new regulation must be fully offset by the elimination of existing costs through deregulatory actions. Because the proposed regulatory action is not significant, the requirements of Executive Order 13771 do not apply.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the final priority and requirements only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Discussion of Potential Costs and Benefits

The Department believes that the costs associated with this final priority and requirements will be minimal, while the benefits are significant. The Department believes that this regulatory action does not impose significant costs on eligible entities. Participation in this program is voluntary, and the costs imposed on applicants by this regulatory action will be limited to paperwork burden related to preparing an application. The benefits of implementing the program—including improved data integration and improved data quality—will outweigh the costs incurred by applicants, and the costs of carrying out activities associated with the application will be paid for with program funds. For these reasons, we have determined that the costs of implementation will not be excessively burdensome for eligible applicants, including small entities.

Regulatory Alternatives Considered

The Department believes that the priority and requirements are needed to administer the program effectively.

Paperwork Reduction Act of 1995

The final priority and requirements contain information collection requirements that are approved by OMB under OMB control number 1894-0006; the final priority and requirements do not affect the currently approved data collection.

Regulatory Flexibility Act Certification: The Secretary certifies that this final regulatory action would not have a significant economic impact on a substantial number of small entities. The U.S. Small Business Administration (SBA) Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this final regulatory action will affect are SEAs; LEAs, including charter schools that operate as LEAs under State law; institutions of higher education (IHEs); other public agencies; private nonprofit organizations; freely associated States and outlying areas; Indian Tribes or Tribal organizations; and for-profit organizations. We believe that the costs imposed on an applicant by the final priority and requirements will be limited to paperwork burden related to preparing an application and that the benefits of this final priority and these final requirements will outweigh any costs incurred by the applicant.

Participation in the Technical Assistance on State Data Collection program is voluntary. For this reason, the final priority and requirements will impose no burden on small entities unless they applied for funding under the program. We expect that in determining whether to apply for Technical Assistance on State Data Collection program funds, an eligible entity will evaluate the requirements of preparing an application and any associated costs, and weigh them against the benefits likely to be achieved by receiving a Technical Assistance on State Data Collection program grant. An eligible entity will most likely apply only if it determines that the likely benefits exceed the costs of preparing an application.

We believe that the final priority and requirements will not impose any additional burden on a small entity applying for a grant than the entity would face in the absence of the final action. That is, the length of the applications those entities would submit in the absence of the final regulatory action and the time needed to prepare an application will likely be the same.

This final regulatory action will not have a significant economic impact on a small entity once it receives a grant because it would be able to meet the costs of compliance using the funds provided under this program.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-14073 Filed 7-8-20; 4:15 pm]

BILLING CODE 4000-01-P